DEPARTMENT OF AGRICULTURE

Forest Service

Monroe Mountain Aspen Ecosystems Restoration Project Fishlake National Forest; Sevier and Piute Counties; UT

AGENCY: Forest Service, USDA.

ACTION: Notice; Intent to prepare environmental impact statement.

SUMMARY: The Forest Service will prepare an environmental impact statement (EIS) to document the analysis and disclose the environmental impacts of proposed land management activities, and corresponding alternatives, within the Monroe Mountain Aspen Ecosystems Restoration Project area.

The purpose of the Monroe Mountain Aspen Ecosystems Restoration Project is to implement land management activities that are consistent with direction in the Fishlake National Forest Land and Resource Management Plan (Forest Plan) and respond to specific needs identified in the project area. The project-specific needs include addressing aspen decline to restore persistent aspen communities of various age classes and sizes with biodiverse understories.

The Monroe Mountain Aspen Ecosystems Restoration Project area is located on National Forest System lands, administered by the Richfield Ranger District, southeast of Richfield, Utah. The legal description for the project area is: multiple sections in Ranges 1, 2, 2½ and 3 West and in Townships 24, 25, 26, 27, 28 and 29 South.

DATES: Comments concerning the proposed land management activities should be received by November 19, 2012 to receive timely consideration in the preparation of the draft EIS.

ADDRESSES: Send written comments concerning the proposed land management activities or requests to be placed on the project mailing list to: Jason Kling, Attention: Monroe Mountain Aspen Restoration Project, Richfield Ranger District, 115 East 900 North, Richfield, Utah 84701. You are welcome and encouraged to submit electronic comments in acceptable formats [plain text (.txt), rich text (.rtf) or Word (.doc)] to: comments-intermtn-fishlake-richfield@fs.fed.us.

FOR FURTHER INFORMATION CONTACT: Jason Kling, Richfield District Ranger, 115 East 900 North, Richfield, Utah 84701, phone (435) 896-9233, fax (435) 896-9347, email: jkling@fs.fed.us. In addition, an Open House will be held at the Sevier County Administrative Building in Richfield, Utah October 10, 6:30 p.m. to 8:30 p.m.

SUPPLEMENTARY INFORMATION: The information presented in this notice is included to help the reviewer determine if they are interested in or potentially affected by the proposed land management activities. The information presented in this notice is summarized. Those who wish to provide comments, or are otherwise interested in or affected by the project, are encouraged to obtain additional information from the contact identified in the FOR FURTHER INFORMATION CONTACT section. Additionally, project detailed information, including maps, may be found on the web at: www. fs.usda.gov/goto/fishlake/projects.

Proposed Actions—Aspen ecosystem restoration activities are proposed in order to restore and sustain aspen in the project area. The Richfield Ranger District has identified restoring all aspen ecosystems on Monroe Mountain as the primary purpose of this project. To accomplish this purpose, the District has identified a need to address lack of fire and subsequent conifer encroachment as one of the primary underlying causes for aspen decline on Monroe Mountain. To address lack of fire and subsequent conifer encroachment on Monroe Mountain, the Richfield District is considering a combination of mechanical and/or prescribed fire treatments that target approximately 55,106 acres of mixed conifer/aspen. Treatments would occur over the next 10 years.

Restoring all aspen ecosystems on Monroe Mountain would result in multiple benefits, which include but are not limited to, improving water yield; improving and increasing habitat for wildlife dependent upon aspen communities; dispersing the use of aspen stands by ungulates; improving native species diversity; reducing hazardous fuel accumulations; and reducing the risk for large scale, intense wildland fires, which in turn creates an environment with less risk to public and firefighter safety.

Responsible Official—The District Ranger of the Richfield District, Fishlake National Forest, Jason Kling, is the Responsible Official for making project-level decisions from the project.

Decision Space—Decision-making will be limited to specific activities relating to the proposed actions. The primary decision to be made will be whether or not to implement the proposed actions or another action alternative that responds to the project's purpose and needs.

Project History—Unsustainable aspen ecosystem conditions include, but are not limited to, conifer encroachment due to reduced fire, and lack of recruitment due to domestic and wild browsing by cattle, sheep, elk and deer. Overbrowsing and absence of fire have been identified as the primary underlying causes for aspen ecosystems on Monroe Mountain being at risk. Aspen of 5-15 feet height (“recruitment”) are uncommon on Monroe Mountain, despite continued sprouting of aspen (“regeneration”). Due to high cost and continual maintenance, fencing is not a long term sustainable response option for protecting aspen sprouts from overbrowsing, and does not address underlying causes of the lack of recruitment. Aspen is a keystone species and historically was a landscape dominant species on Monroe Mountain. Aspen ecosystems support the highest level of biodiversity for interior western forests. Productivity of aspen ecosystem understories (grass, forbs, and shrubs) is higher than all other forest types. Individual aspen trees arise almost exclusively from root suckers and are relatively short-lived (i.e., 100-200 years). Aspen is shade intolerant and sprouts heavily following disturbance; such as fire, which removes shading effects in areas where conifers have become dominant and compete with aspen. Mechanical treatments can also be an effective disturbance tool for aspen restoration.

Preliminary Issues—Comments from American Indian tribes, the public, and other agencies will be considered in identifying preliminary issues. The District has identified and is concerned about the following potential issues: prescribed fire near private inholdings, mechanical treatments in Inventoried Roadless Areas, effects on wildlife species, effects to watersheds and soils, effects on vegetation (i.e. impacts to old growth conifer stands, spruce plantations and aspen), effects from insects and disease, effects on livestock grazing management, overbrowsing of new aspen by domestic livestock and wild ungulates following treatments, effects on cultural resources, and effects from smoke from prescribed fire.

Public Participation—This notice of intent initiates the scoping process, which will assist with the development of the environmental impact statement. The Forest Service is seeking comments from Federal, State, and local agencies, as well as local Native American tribes and other individuals or organizations that may be interested in or affected by the proposed actions. Comments received in response to this notice will become a matter of public record. While public participation is welcome at any time, comments on the proposed actions received within 45 days of this notice will be especially useful in the preparation of the draft EIS. Timely comments will be used to identify: potential issues with the proposed actions, alternatives to the proposed actions that respond to the identified needs and significant issues, and potential environmental effects of the proposed actions and alternatives considered in detail. In addition, the public is encouraged to contact and/or visit Forest Service officials at any time during the planning process.

The decisions associated with the analysis of this project will be consistent with the Fishlake Land and Resource Management Plan.

Estimated Dates for Filing—The draft EIS is expected to be filed with the Environmental Protection Agency and available for public review in May 2013. A 45-day comment period will follow publication of a Notice of Availability of the draft EIS in the Federal Register. Comments received on the draft EIS will be used in preparation of the final EIS, expected in August 2013. A Record of Decision (ROD) will also be issued at that time along with the publication of a Notice of Availability of the final EIS and ROD in the Federal Register.

Reviewer's Obligation to Comment—The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F. Supp. 1334, 1338 (E.D. Wis., 1980). Because of these court rulings, it is very important that those interested in this proposed action participate by the close of the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Dated: September 24, 2012.
Jason Kling,
District Ranger, Richfield Ranger District, Fishlake National Forest, 115 East 900 North, Richfield, Utah 84701.

[FR Doc. 2012-24317 Filed 10-2-12; 8:45 am]

BILLING CODE 3410-11-P